INTERNATIONAL TRADE COMMISSION

[Investigations Nos. 701-TA-439 and 731-TA-1077, 1078, and 1080 (Final)]

Polyethylene Terephthalate (PET) Resin from India, Indonesia, and Thailand

Determinations

On the basis of the record ¹ developed in the subject investigations, the United States International Trade Commission (Commission) determines,² pursuant to section 705(b) of the Tariff Act of 1930 (19 U.S.C. 1671d(b)) (the Act), that an industry in the United States is not materially injured or threatened with material injury, and the establishment of an industry in the United States is not materially retarded, by reason of imports from India of PET resin, provided for in subheading 3907.60.00 of the Harmonized Tariff Schedule of the United States, that have been found by the Department of Commerce (Commerce) to be subsidized by the Government of India.³

¹ The record is defined in sec. 207.2(f) of the Commission's Rules of Practice and Procedure (19 CFR 207.2(f)).

² Commissioner Marcia E. Miller dissenting.

³ On March 21, 2005, the Commission terminated its countervailing duty investigation with regard to Thailand (Inv. No. 701-TA-440) (70 FR 15884, March 29, 2005) as a result of Commerce's negative final determination of subsidies regarding imports of PET resin from Thailand (70 FR 13462, March 21, 2005).

The Commission also determines,² pursuant to section 735(b) of the Act (19 U.S.C. 1673d(b)), that an industry in the United States is not materially injured or threatened with material injury, and the establishment of an industry in the United States is not materially retarded, by reason of imports from India, Indonesia, and Thailand of PET resin that have been found by Commerce to be sold in the United States at less than fair value (LTFV).⁴

² Commissioner Marcia E. Miller dissenting.

⁴ On March 21, 2005, the Commission terminated its antidumping investigation with regard to Taiwan (Inv. No. 731-TA-1079) (70 FR 15884, March 29, 2005) as a result of Commerce's final determination of sales at not LTFV regarding imports of PET resin from Taiwan (70 FR 13454, March 21, 2005).

Background

The Commission instituted these investigations effective March 24, 2004, following receipt of a petition filed with the Commission and Commerce by the U.S. PET Resin Producers' Coalition, Washington, DC. The final phase of the investigations was scheduled by the Commission following notification of preliminary determinations by Commerce that imports of PET resin from India were being subsidized within the meaning of section 703(b) of the Act (19 U.S.C. 1671b(b)) and that imports of PET resin from India, Indonesia, and Thailand were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of November 17, 2004 (69 FR 67365). The hearing was held in Washington, DC, on March 15, 2005, and all persons who requested the opportunity were permitted to appear in person or by counsel.

The Commission transmitted its determination in these investigations to the Secretary of Commerce on May 3, 2005. The views of the Commission are contained in USITC Publication 3769 (May 2005), entitled Polyethylene Terephthalate (PET) Resin from India, Indonesia, and Thailand: Investigations Nos. 701-TA-439 and 731-TA-1077, 1078, and 1080 (Final).

By order of the Commission.
Issued: May 2, 2005.
Marilyn R. Abbott,
Secretary to the Commission.

[FR Doc. 05-9136 Filed 5-5-05; 8:45 am]

BILLING CODE 7020-02-P